ENVIRONMENTAL PROTECTION AGENCY

[EPA-HQ-OPP-2024-0634; FRL-12546-01-OCSPP]

Potassium Chloride (KCl); Receipt of Application for Emergency Exemption

AGENCY: Environmental Protection Agency (EPA).

ACTION: Notice.

SUMMARY: EPA is announcing a quarantine exemption request from the Idaho State Department of Agriculture (ISDA) to use the pesticide potassium chloride (CAS No. 7440-09-7) to treat up to 1.26 acres to control Quagga mussels. The applicant proposes the use of a new chemical which has not been registered by EPA. Due to the urgent nature of the emergency and the very narrow and limited use being requested EPA has eliminated the public comment period. Nonetheless, interested parties may still contact the Agency with information about this notice and treatment program.

ADDRESSES: The docket for this action, identified by docket identification (ID) number EPA-HQ-OPP-2024-0634, is available online at https://www.regulations.gov. Additional information about dockets generally, is available at https://www.epa.gov/dockets.

FOR FURTHER INFORMATION CONTACT: Charles Smith, Director, Registration Division (7505T), Office of Pesticide Programs, Environmental Protection Agency, 1200 Pennsylvania Ave. NW, Washington, DC 20460-0001; main telephone number: (202) 566-2875; email address: RDFRNotices@epa.gov.

SUPPLEMENTARY INFORMATION:

I. Executive Summary

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this proposed action to a particular entity, consult the person listed under FOR FURTHER INFORMATION CONTACT.

B. What is EPA's authority for taking this action?

Under section 18 of the Federal Insecticide, Fungicide, and Rodenticide Act (FIFRA) (7 U.S.C. 136p), at the discretion of the EPA Administrator, a Federal or State agency may be exempted from any provision of FIFRA if the EPA Administrator determines that emergency conditions exist which require the exemption. EPA implementing regulations are set forth in 40 CFR part 166.

C. What action is the Agency taking?

EPA is announcing receipt of a request submitted to EPA under FIFRA section 18. This notice does not constitute a decision by EPA on the application itself. The regulations governing FIFRA section 18 require publication of a notice of receipt of an application for a quarantine exemption proposing use of a new chemical (i.e., an active ingredient) which has not been registered by EPA.

II. Summary of the Request Received

The ISDA has requested that EPA issue a quarantine exemption for the use of potassium chloride in ponds and pools to control Quagga mussels. Information in accordance with 40 CFR part 166 was submitted as part of this request.

As part of this request, the applicant asserts that the current alternatives are considered to be less desirable because of environmental concerns, technical infeasibility, logistics, and expense. Quagga mussels are a non-native, invasive species found in sections of the Middle Snake River that can bioaccumulate pollutants and toxins 300,000 times greater than concentrations in the environment. These pollutants are found in their pseudofeces, which can be passed up the food chain, therefore increasing wildlife exposure to organic pollutants. Even though quaggas are prodigious water filterers, they remove substantial amounts of phytoplankton and suspended particulate from the water. By removing the phytoplankton, quaggas in turn decrease the food source for zooplankton, therefore altering the food web. Quaggas can also clog water intake structures, such as pipes and screens, therefore reducing pumping capabilities for power and water treatment plants, costing industries, companies, and communities.

The Applicant proposes to use no more than 18,590 lbs. of the unregistered product, MOP, potassium chloride, the soluble muriated KCl mixture formula, on 1.26 acres of ponds, pools and potholes distributed between 51 different ephemeral ponds, pools and potholes within the Middle Snake River and adjoining areas in Twin Falls, Jerome and surrounding counties in Idaho where it is to be used.

As noted above, the Agency is eliminating the comment period due to the urgent nature of the emergency situation and the very narrow and limited use being requested. Nonetheless, interested parties may still contact the Agency with information about this notice and treatment program through the email address under FOR FURTHER INFORMATION CONTACT.

Authority: 7 U.S.C. 136 et seq.

Dated: February 5, 2025.
Charles Smith,
Director, Registration Division, Office of Pesticide Programs.

[FR Doc. 2025-02422 Filed 2-7-25; 8:45 am]

BILLING CODE 6560-50-P